DEPARTMENT OF ENERGY

Federal Energy Regulatory Commission

Combined Notice of Filings #2

Take notice that the Commission received the following exempt wholesale generator filings:

Docket Numbers: EG15-2-000.

Applicants: Lost Hills Solar, LLC.

Description: Notice of Self-Certification of Exempt Wholesale Generator Status of Lost Hills Solar, LLC.

Filed Date: 10/7/14.

Accession Number: 20141007-5057.

Comments Due: 5 p.m. ET 10/28/14.

Docket Numbers: EG15-3-000.

Applicants: Blackwell Solar, LLC.

Description: Notice of Self-Certification of Exempt Wholesale Generator Status of Blackwell Solar, LLC.

Filed Date: 10/7/14.

Accession Number: 20141007-5058.

Comments Due: 5 p.m. ET 10/28/14.

Take notice that the Commission received the following electric rate filings:

Docket Numbers: ER14-2468-001.

Applicants: NorthWestern Corporation.

Description: Compliance filing per 35: Additional Changes to Pending Order No 792 Compliance Filing (South Dakota) to be effective 7/22/2014.

Filed Date: 10/7/14.

Accession Number: 20141007-5078.

Comments Due: 5 p.m. ET 10/28/14.

Docket Numbers: ER14-2715-001.

Applicants: Midcontinent Independent System Operator, Inc.

Description: Tariff Amendment per 35.17(b): 2014-10-07_SA 2690 Amended Big Stone Plant T-T IA to be effective 8/28/2014.

Filed Date: 10/7/14.

Accession Number: 20141007-5138.

Comments Due: 5 p.m. ET 10/28/14.

Docket Numbers: ER14-2719-001.

Applicants: Midcontinent Independent System Operator, Inc.

Description: Tariff Amendment per 35.17(b): 2014-10-07_SA 2692 Amended Big Stone South-Brookings T-T to be effective 8/28/2014.

Filed Date: 10/7/14.

Accession Number: 20141007-5144.

Comments Due: 5 p.m. ET 10/28/14.

Docket Numbers: ER14-2921-001.

Applicants: Southwestern Public Service Company.

Description: Tariff Amendment per 35.17(b): 10-7-14_RS135 FCA-SPP IM Anc Srvc Amend to be effective 3/1/2014.

Filed Date: 10/7/14.

Accession Number: 20141007-5134.

Comments Due: 5 p.m. ET 10/28/14.

Docket Numbers: ER14-2923-001.

Applicants: Southwestern Public Service Company.

Description: Tariff Amendment per 35.17(b): 10-7-14_RS114-117, 137 FCA-SPP IM Anc Srvc Amend to be effective 3/1/2014.

Filed Date: 10/7/14.

Accession Number: 20141007-5136.

Comments Due: 5 p.m. ET 10/28/14.

Docket Numbers: ER14-2970-000.

Applicants: TransCanada Hydro Northeast Inc.

Description: Supplement to September 30, 2014 TransCanada Hydro Northeast Inc. tariff filing.

Filed Date: 10/3/14.

Accession Number: 20141003-5240.

Comments Due: 5 p.m. ET 10/24/14.

Docket Numbers: ER15-54-000.

Applicants: Lost Hills Solar, LLC.

Description: Initial rate filing per 35.12 Application for Initial Market-Based Rate Tariff and Granting Certain Waivers to be effective 12/1/2014.

Filed Date: 10/7/14.

Accession Number: 20141007-5040.

Comments Due: 5 p.m. ET 10/28/14.

Docket Numbers: ER15-55-000.

Applicants: Blackwell Solar, LLC.

Description: Initial rate filing per 35.12 Application for Initial Market-Based Rate Tariff and Granting Certain Waivers to be effective 12/6/2014.

Filed Date: 10/7/14.

Accession Number: 20141007-5043.

Comments Due: 5 p.m. ET 10/28/14.

Docket Numbers: ER15-56-000.

Applicants: AEP Texas Central Company.

Description: § 205(d) rate filing per 35.13(a)(2)(iii): TCC-Sendero Wind Energy IA to be effective 9/19/2014.

Filed Date: 10/7/14.

Accession Number: 20141007-5102.

Comments Due: 5 p.m. ET 10/28/14.

Docket Numbers: ER15-57-000.

Applicants: AEP Texas Central Company.

Description: § 205(d) rate filing per 35.13(a)(2)(iii): TCC-La Paloma Energy Center IA to be effective 9/19/2014.

Filed Date: 10/7/14.

Accession Number: 20141007-5113.

Comments Due: 5 p.m. ET 10/28/14.

The filings are accessible in the Commission's eLibrary system by clicking on the links or querying the docket number.

Any person desiring to intervene or protest in any of the above proceedings must file in accordance with Rules 211 and 214 of the Commission's Regulations (18 CFR 385.211 and 385.214) on or before 5:00 p.m. Eastern time on the specified comment date. Protests may be considered, but intervention is necessary to become a party to the proceeding.

eFiling is encouraged. More detailed information relating to filing requirements, interventions, protests, service, and qualifying facilities filings can be found at: http://www.ferc.gov/docs-filing/efiling/filing-req.pdf. For other information, call (866) 208-3676 (toll free). For TTY, call (202) 502-8659.

Dated: October 7, 2014.
Nathaniel J. Davis, Sr.,
Deputy Secretary.

[FR Doc. 2014-24564 Filed 10-15-14; 8:45 am]

BILLING CODE 6717-01-P